DEPARTMENT OF TRANSPORTATION

Maritime Administration

[Docket No. MARAD-2022-0076]

Deepwater Port License Application: New Fortress Energy Louisiana FLNG LLC

AGENCY: Maritime Administration, Department of Transportation.

ACTION: Notice of intent; notice of public meeting; request for comments.

SUMMARY: The U.S. Coast Guard (USCG), in coordination with the Maritime Administration (MARAD), will prepare an environmental impact statement (EIS) as part of the environmental review of the New Fortress Energy Louisiana FLNG LLC (Applicant) deepwater port license application. The application proposes the ownership, construction, operation and eventual decommissioning of an offshore natural gas export deepwater port, known as New Fortress Energy Louisiana FLNG, that would be located in Federal waters approximately 16 nautical miles off the southeast coast of Grand Isle, Louisiana in a water depth of approximately 30 meters. The deepwater port would allow for the loading of liquefied natural gas (LNG) trading carriers. This Notice of Intent (NOI) requests public participation in the scoping process, provides information on how to participate and announces an informational virtual open house and virtual public meeting. Pursuant to the criteria provided in the Deepwater Port Act of 1974, as amended, Louisiana is the designated Adjacent Coastal State (ACS) for this application.

DATES: The public meeting will be held virtually, on May 11, 2022, from 6:00 p.m. to 8:00 p.m. Central Standard Time (CST). The virtual public meeting will be preceded by a virtual open house from 4:00 p.m. to 6:00 p.m. CST. The public meeting may end later than the stated time, depending on the number of persons who wish to make a comment on the record. Additionally, materials submitted in response to this request for comments on the New Fortress Energy Louisiana FLNG deepwater port license application must be submitted to the www.regulations.gov website or the Federal Docket Management Facility as detailed in the ADDRESSES section below by the close of the comment period.

ADDRESSES: You may submit comments identified by DOT Docket Number MARAD-2022-0076 by any one of the following methods:

• Federal eRulemaking Portal: Go to http://www.regulations.gov. Search MARAD-2022-0076 and follow the instructions for submitting comments.

• Mail or Hand Delivery: The Docket Management Facility is in the West Building, Ground Floor of the U.S. Department of Transportation. The Docket Management Facility location address is U.S. Department of Transportation, MARAD-2022-0076, 1200 New Jersey Avenue SE, West Building, Room W12-140, Washington, DC 20590. Due to flexible work schedules in response to COVID-19, call 202-493-0402 to determine facility hours prior to hand delivery.

Note: If you mail or hand-deliver your comments, we recommend that you include your name and a mailing address, an email address, and/or a telephone number in a cover page so that we can contact you if we have questions regarding your submission.

Instructions: All submissions received must include the agency name and specific docket number. All comments received will be posted without change to the docket at www.regulations.gov, including any personal information provided. For detailed instructions on submitting comments, see the section entitled Public Participation.

FOR FURTHER INFORMATION CONTACT: Mr. Brian Barton, Maritime Administration, telephone 202-366-0302, email: Brian.Barton@dot.gov, or Ms. Galia Kaplan, U.S. Coast Guard, telephone: 202-372-1567, email: Galia.Kaplan@uscg.mil. For questions regarding viewing the Docket, call Docket Operations, telephone: 202-366-9826.

SUPPLEMENTARY INFORMATION:

Public Meeting and Open House

We encourage you to attend the informational open house and virtual public meeting to learn about, and comment on, the proposed deepwater port. You will have the opportunity to submit comments on the scope and significance of the issues related to the proposed deepwater port that should be addressed in the EIS.

Speaker registration is available online http://louisianaflngnepaprocess.com/ or by calling 1-877-589-8895. Speakers at the virtual public meeting will be recognized in the following order: Elected officials, public agencies, individuals or groups in the sign-up order and then anyone else who wishes to speak.

In order to allow everyone a chance to speak at a public meeting, we may limit speaker time, extend the meeting hours, or both. You must identify yourself, and any organization you represent, by name. Your remarks will be recorded and/or transcribed for inclusion in the public docket.

You may submit written material though docket submission or by contacting the MARAD or USCG project manager identified in FOR FURTHER INFORMATION CONTACT either in place of, or in addition to, speaking. Written material should include your name and address and will be included in the public docket.

Public docket materials will be made available to the public on the Federal Docket Management Facility website (see ADDRESSES).

If you plan to participate in the open house or public meeting and need special assistance such as sign language interpretation, non-English language translator services or other reasonable accommodation, please notify MARAD or the USCG (see FOR FURTHER INFORMATION CONTACT) at least 5 business days in advance of the public meeting. Include your contact information as well as information about your specific needs.

Request for Comments

We request public comment on this proposal. The comments may relate to, but are not limited to, the environmental impact of the proposed action. All comments will be accepted. The public meeting is not the only opportunity you have to comment on the New Fortress Energy Louisiana FLNG deepwater port license application. In addition to, or in place of, attending a meeting, you may submit comments directly to the Federal Docket Management Facility during the public comment period (see DATES). We will consider all comments and material received during the 30-day scoping period.

The license application, comments and associated documentation, as well as the draft and final EISs (when published), are available for viewing at the Federal Docket Management System (FDMS) website: http://www.regulations.gov under docket number MARAD-2022-0076.

Public comment submissions should include:

• Docket number MARAD-2022-0076.

• Your name and address.

Submit comments or material using only one of the following methods:

• Electronically (preferred for processing) to the Federal Docket Management System (FDMS) website: http://www.regulations.gov under docket number MARAD-2022-0076.

• By mail to the Federal Docket Management Facility (MARAD-2022-0076), U.S. Department of Transportation, West Building, Ground Floor, Room W12-140, 1200 New Jersey Avenue SE, Washington, DC 20590-0001.

• By fax to the Federal Docket Management Facility at 202 366-9826.

Faxed or mailed submissions must be unbound, no larger than 8½ by 11 inches and suitable for copying and electronic scanning. The format of electronic submissions should also be no larger than 8½ by 11 inches. If you mail your submission and want to know when it reaches the Federal Docket Management Facility, please include a stamped, self-addressed postcard or envelope.

Regardless of the method used for submitting comments, all submissions will be posted, without change, to the FDMS website (http://www.regulations.gov) and will include any personal information you provide. Therefore, submitting this information to the docket makes it public. You may wish to read the Privacy and Use Notice that is available on the FDMS website and the Department of Transportation Privacy Act Notice that appeared in the Federal Register on April 11, 2000 (65 FR 19477), see Privacy Act. You may view docket submissions at the Federal Docket Management Facility or electronically on the FDMS website.

Background

Information about deepwater ports, the statutes, and regulations governing their licensing, including the application review process, and the receipt of the current application for the proposed New Fortress Energy Louisiana FLNG deepwater port appears in the New Fortress Energy Louisiana FLNG Notice of Application, April 26, 2022 edition of the Federal Register. The “Summary of the Application” from that publication is reprinted below for your convenience.

Consideration of a deepwater port license application includes review of the proposed deepwater port's impact on the natural and human environment. For the proposed deepwater port, MARAD and the USCG are the co-lead Federal agencies for determining the scope of this review, and in this case, it has been determined that review must include preparation of an EIS. This NOI is required by 40 CFR 1501.7. It briefly describes the proposed action, possible alternatives and our proposed scoping process. You can address any questions about the proposed action, the scoping process or the EIS to the MARAD or USCG project managers identified in this notice (see FOR FURTHER INFORMATION CONTACT).

Proposed Action and Alternatives

The proposed action requiring environmental review is the Federal licensing of the proposed deepwater port described in “Summary of the Application” below. The alternatives to licensing the proposed port are: (1) Licensing with conditions (including conditions designed to mitigate environmental impact), (2) evaluation of proposed deepwater port and onshore site/pipeline route alternatives or (3) denying the application, which for purposes of environmental review is the “no-action” alternative.

Summary of the Application

The application proposes the ownership, construction, operation, and eventual decommissioning of the New Fortress Energy (“NFE”) Louisiana FLNG deepwater port (“DWP”) terminal to be located approximately 16 nautical miles off the southeast coast of Grand Isle, Louisiana. The project proposes to source domestic natural gas from multiple supply hubs in the Southeast Louisiana local market, liquify, and export as LNG up to 2.8 million tonnes per annum (MTPA), from a deepwater port located in federal waters off Louisiana.

The project will involve the installation of two nominal 1.4 MTPA liquefaction systems (FLNG1 and FLNG2) installed in the West Delta Outer Continental Shelf Lease Block 38 (“WD-38”) in approximately 30 meters (98 feet) of water. Each system will contain three platforms consisting of natural gas processing, natural gas liquefaction, and utilities and accommodations. FLNG1 will incorporate self-elevating platforms (otherwise known as jack-up platforms or rigs), and FLNG2, which will be located adjacent to FLNG1, will utilize fixed platform structures. An additional self-elevating platform will house feed gas compressors. Other than temporary construction staging areas, there are no onshore facilities associated with the Project. Staging for construction, if needed, will utilize existing staging, laydown, and warehouse space near Port Fourchon, Port Sulphur, or Venice.

The feed gas supply to the project will be transported to the WD-38 site via the existing Kinetica Energy Express, LLC (“Kinetica”) offshore natural gas pipeline system and two newly constructed, 24-inch pipeline laterals connecting the Kinetica pipeline system to the Project. The Kinetica pipeline has been in continuous natural gas service since it was placed in service. The pipeline pressure is currently operating at 750 pounds per square inch (“psi”) with an onshore Maximum Allowable Operating Pressure (“MAOP”) of 1,000 psi and an offshore MAOP of 1,250 psi.

Both FLNG1 and FLNG2 will be connected to a single Floating LNG Storage Unit (“FSU”) via a flexible, partially submerged, 220-meter cryogenic hose transfer system. The FSU will be positioned approximately 107 meters (350 feet) from the FLNGs. To export the LNG, the FSU will receive one (1) commercially traded LNG carrier (LNGC) at a time, which will have a nominal cargo capacity of approximately 125,000 m3 to 160,000 m3. The LNGCs will berth along the starboard side of the FSU and receive the LNG cargo through a ship-to-ship transfer cargo transfer system. The LNGC will approach the DWP and depart from the DWP using an extension to the established safety fairway, which serves maritime traffic calling at the Louisiana Offshore Oil Port. Approximately 40 LNGCs will call on the Project per year.

For more information, please contact either Mr. Brian Barton, MARAD, or Ms. Galia Kaplan, as listed in the FOR FURTHER INFORMATION CONTACT section of this document.

Scoping Process

Public scoping is an early and open process for identifying and determining the scope of issues to be addressed in the EIS. Scoping begins with this notice, continues through the public comment period (see DATES), and ends when USCG and MARAD have completed the following actions:

• Invites the participation of Federal, state, and local agencies, any affected Indian tribe, the Applicant, and other interested persons;

• Determines the actions, alternatives and impacts described in 40 CFR 1508.25;

• Identifies and eliminates from detailed study, those issues that are not significant or that have been covered elsewhere;

• Identifies other relevant permitting, environmental review and consultation requirements;

• Indicates the relationship between timing of the environmental review and other aspects of the application process; and

• At its discretion, exercises the options provided in 40 CFR 1501.7(b).

Once the scoping process is complete, USCG and MARAD will prepare a draft EIS. When complete, MARAD will publish a Federal Register notice announcing public availability of the Draft EIS. (If you want that notice to be sent to you, please contact the MARAD or USCG project manager identified in FOR FURTHER INFORMATION CONTACT). You will have an opportunity to review and comment on the Draft EIS. MARAD, the USCG, and other appropriate cooperating agencies will consider the received comments and then prepare the Final EIS. As with the Draft EIS, we will announce the availability of the Final EIS and give you an opportunity for review and comment. The Act requires a final public hearing be held in the ACS. Its purpose is to receive comments on matters related to whether or not a deepwater port license should be issued to the applicant by the Maritime Administrator. The final public hearing will be held after the Final EIS is made available for public review and comment.

Privacy Act

Anyone can search the electronic form of all comments received into any of our dockets by the name of the individual submitting the comment (or signing the comment, if submitted on behalf of an association, business, labor union, etc.). For information on DOT”s compliance with the Privacy Act, please visit https://www.transportation.gov/privacy.

(Authority: 49 CFR 1.93).

By Order of the Acting Maritime Administrator.
T. Mitchell Hudson, Jr.,
Secretary, Maritime Administration.

[FR Doc. 2022-08857 Filed 4-25-22; 8:45 am]

BILLING CODE 4910-81-P